DEPARTMENT OF ENERGY

Federal Energy Regulatory Commission

[Docket No. RP00-553-003]

Transcontinental Gas Pipe Line Corporation; Notice of Compliance Filing

March 7, 2001.

Take notice that on February 28, 2001, Transcontinental Gas Pipe Line Corporation (Transco) tendered for filing certain pro forma revised tariff sheets to its FERC Gas Tariff, Third Revised Volume No. 1, to comply with the Federal Energy Regulatory Commission's Order issued on October 27, 2000 in Docket Nos. RM96-1-14 and RP00-553-001 and requests, if necessary, a further extension of time to implement imbalance netting and trading.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 01-6140 Filed 3-12-01; 8:45 am]

BILLING CODE 6717-01-M